DEPARTMENT OF LABOR

Mine Safety and Health Administration

Petitions for Modification

The following parties have filed petitions to modify the application of existing safety standards under section 101(c) of the Federal Mine Safety and Health Act of 1977.

1. True Line, Inc.

[Docket No. M-2002-051-C]

True Line, Inc., P.O. Box 85, Thorpe, West Virginia 24888 has filed a petition to modify the application of 30 CFR 75.364(b)(2) (weekly examination) to its Mine No. 1 (I.D. No. 46-08048) located in McDowell County, West Virginia. The petitioner requests a modification of the standard to permit travel to examine its No. 1 entry of the return air course, except for 180 feet, due to deteriorating roof conditions. The petitioner asserts that traveling the affected area would be unsafe. The petitioner states that the affected area would be dangered off and breaker posts would be set to prohibit travel, a monitoring point would be established at the inby and outby end of the untraveled area and a date board installed, and air quality and quantity would be examined at each monitoring point on a weekly basis and the results recorded in the appropriate book. The petitioner asserts that the proposed alternative method would provide at least the same measure of protection as the existing standard.

2. Titan Mining, Inc.

[Docket No. M-2002-052-C]

Titan Mining, Inc., P.O. Box 276, Eskdale, West Virginia 25075-0276 has filed a petition to modify the application of 30 CFR 75.1103 (Automatic fire warning devices) to its Laurel Fork Deep Mine (I.D. No. 46-08836) located in Kanawha County, West Virginia. The petitioner requests a modification of the existing standard to permit a carbon monoxide detection system to be installed in belt entries to identify a sensor location in lieu of identifying each belt flight. The petitioner proposes to install a carbon monoxide monitoring system as an early warning fire detection system in all belt entries. The petitioner has outlined specific procedures in this petition that would be used when implementing this proposed alternative method. The petitioner asserts that the proposed alternative method would provide at least the same measure of protection as the existing standard.

3. Perry County Coal Corp.

[Docket No. M-2002-053-C]

Perry County Coal Corp., 1845 S. KY Hwy 15, Hazard, Kentucky 41701 has filed a petition to modify the application of 30 CFR 75.364(b)(2) (weekly examination) to its HZ4-1 Mine (I.D. No. 15-02085) located in Perry County, Kentucky. The petitioner proposes to relocate approved checks points 9A and 9B in the intake of the Southeast Mains one break outby the No. 9 entry of the Roll Mains, and establish one new check point (examination point) 10A in the return of the Southeast Mains in the No. 1 Entry located at the 44 Seals, six breaks inby the No. 1 Head Drive. The petitioner states that air measurement stations will be established at locations that would allow effective evaluation of ventilation in the affected areas and that these stations would be checked on a weekly basis by a certified person. The petitioner states that roof and rib conditions in the affected areas of the mine have deteriorated and expose mine personnel to hazardous conditions. The petitioner asserts that the proposed alternative method would provide at least the same measure of protection as the existing standard.

4. Titan Mining, Inc.

[Docket No. M-2002-054-C]

Titan Mining, Inc., P.O. Box 276, Eskdale, West Virginia 25075-0276 has filed a petition to modify the application of 30 CFR 75.503 (Permissible electric face equipment; maintenance) and 30 CFR 18.41(f) (Plug and receptacle-type connectors) to its Laurel Fork Deep Mine (I.D. No. 46-08836) located in Kanawha County, West Virginia. The petitioner proposes to use a threaded ring and a spring-loaded device instead of a padlock on battery plug connectors to prevent the plug connector from accidently disengaging while under load. The petitioner states that a warning tag that states “Do Not Disengage Under Load”, will be installed on all battery plug connectors and that instructions on the safe practices and provisions will be provided to all persons who operate or maintain the battery-powered machines. The petitioner asserts that the proposed alternative method would provide at least the same measure of protection as the existing standard.

5. Lone Mountain Processing, Inc.

[Docket No. M-2002-055-C]

Lone Mountain Processing, Inc., Drawer C, St. Charles, Virginia 24282 has filed a petition to modify the application of 30 CFR 75.701 (Grounding metallic frames, casings, and other enclosures of electric equipment) to its Darby Fork Mine (I.D. No. 15-02263) and Huff Creek Mine (I.D. No. 15-17234) located in Harlan County, Kentucky. The petitioner proposes to use a 480-volt, three-phase, 300KW/375KVA diesel powered generator (DPG) set to supply power to a three-phase wye connected 300 KVA autotransformer and three-phase 480-volt and 995-volt power circuits. The petitioner states that the diesel powered generator with an approved diesel drive engine would only be used to move equipment in, out, and around the mine and to perform miner activities in the mine. The petitioner asserts that the proposed alternative method would provide at least the same measure of protection as the existing standard.

6. Highland Mining Company

[Docket No. M-2002-056-C]

Highland Mining Company, P.O. Box 569, Morganfield, Kentucky 42437 has filed a petition to modify the application of 30 CFR 75.350 (Air courses and belt haulage entries) to its Highland 9 Mine (I.D. No. 15-02709) located in Union County, Kentucky. The petitioner requests a modification of the standard to permit the use of air from the belt haulage entries to ventilate active working places. The petitioner proposes to install a carbon monoxide monitoring system as an early warning fire detection system in all belt entries used to course intake air to a working place. The petitioner asserts that the proposed alternative method would provide at least the same measure of protection as the existing standard.

7. Highland Mining Company

[Docket No. M-2002-057-C]

Highland Mining Company, P.O. Box 569, Morganfield, Kentucky has filed a petition to modify the application of 30 CFR 75.350 (Air courses and belt haulage entries) to its Highland 11 Mine (I.D. No. 15-18480) located in Union County, Kentucky. The petitioner requests a modification of the standard to permit the use of air from the belt haulage entries to ventilate active working places. The petitioner proposes to install a carbon monoxide monitoring system as an early warning fire detection system in all belt entries used to course intake air to a working place. The petitioner asserts that the proposed alternative method would provide at least the same measure of protection as the existing standard.

8. AEP Kentucky Coal

[Docket No. M-2002-058-C]

AEP Kentucky Coal, LLC, BB & T Square, 300 Summers Street, Suite 1380, P.O. Box 2549, Charleston, West Virginia 25329-2549 has filed a petition to modify the application of 30 CFR 77.1607(u) (Loading and haulage equipment; operation) to its Three Mile Mine (I.D. No.15-17659), Road Creek Mine (I.D. No. 15-17008), Rob Fork Processing (I.D. No. 15-14468), Millard Processing (I.D. No. 15-06733), Elkhorn Loading Facility (I.D. No. 15-16270), Schoolhouse #1 (I.D. No. 15-18528) all located in Pike County, Kentucky; Beverly Ann Tipple (I.D. No. 15-11870) located in Floyd County, Kentucky; Pettys Fork Mine #1 (I.D. No.15-17742) located in Pike County, Kentucky; and Big Branch Mine (I.D. No. 15-17834) located in Magoffin County, Kentucky. The petitioner asserts that the proposed alternative method would provide at least the same measure of protection as the existing standard.

9. Consol of Kentucky, Inc.

[Docket No. M-2002-059-C]

Consol of Kentucky, Inc., Consol Plaza, 1800 Washington Road, Pittsburgh, Pennsylvania 15241-1421 has filed a petition to modify the application of 30 CFR 75.1101-8 (Water sprinkler systems; arrangement of sprinklers) to its Beaver Gap E-3 Mine (I.D. No. 15-18505) located in Knott County, Kentucky. The petitioner proposes to use a single overhead pipe system with ½-inch orifice automatic sprinklers located on 10-foot centers, located to cover 50 feet of fire-resistant belt or 150 feet of non-fire resistant belt, with actuation temperatures between 200 and 230 degrees Farenheit, and with water pressure equal to or greater than 10 psi. The petitioner states that the automatic sprinklers will be located not more than 10 feet apart, so that the discharge of water will extend over the belt drive, belt take-up, electrical control, and gear reducing unit. The petitioner asserts that the proposed alternative method would provide at least the same measure of protection as the existing standard.

10. Highland Mining Company

[Docket No. M-2002-060-C]

Highland Mining Company, 1970 Barrett Court, P.O. Box 1990, Henderson, Kentucky 42419-1990 has filed a petition to modify the application of 30 CFR 75.364(b)(4) (Weekly examination) to its Highland 9 Mine (I.D. No. 15-02709) located in Union County, Kentucky. Due to hazardous roof conditions of the seals at the mouth of the 3rd Panel West of the 1st Submain North of the intake air course entries, the petitioner proposes to establish evaluation points to monitor methane and oxygen concentrations. The petitioner states that a certified person will examine the affected area on a weekly basis and record the results of the examinations in a record book maintained on the surface of the mine. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 1100 Wilson Boulevard, Room 2352, Arlington, Virginia 22209. All comments must be postmarked or received in that office on or before September 3, 2002. Copies of these petitions are available for inspection at that address.

Dated at Arlington, Virginia this 23rd day of July 2002.
Marvin W. Nichols, Jr.,
Director, Office of Standards, Regulations, and Variances.

[FR Doc. 02-19396 Filed 7-31-02; 8:45 am]

BILLING CODE 4510-43-P